DEPARTMENT OF THE INTERIOR

National Park Service

[NPS-WASO-NAGPRA-23400; PPWOCRADN0-PCU00RP14.R50000]

Notice of Inventory Completion: University of Massachusetts Amherst, Department of Anthropology, Amherst, MA

AGENCY: National Park Service, Interior.

ACTION: Notice.

SUMMARY: The University of Massachusetts Amherst, Department of Anthropology, has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Department of Anthropology at the University of Massachusetts, Amherst. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the address in this notice by July 31, 2017.

ADDRESSES: Dr. Sonya Atalay, Chair, Repatriation Committee, Department of Anthropology, 217 Machmer Hall, University of Massachusetts, 240 Hicks Way, Amherst, MA 01003, telephone (413) 545-2702, email satalay@umass.edu.

SUPPLEMENTARY INFORMATION: Notice is here given in accordance with the Native American Graves Protection and Repatriation Act (NAGPRA), 25 U.S.C. 3003, of the completion of an inventory of human remains under the control of the University of Massachusetts Amherst, Department of Anthropology. The human remains were removed from an unknown location in East Springfield, NY.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Massachusetts Amherst, Department of Anthropology, professional staff in consultation with representatives of the Haudenosaunee Standing Committee on Burial Rights and Regulations, and the following federally-recognized tribes: Cayuga Nation; Oneida Nation; Oneida Nation of New York; Onondaga Nation; Saint Regis Mohawk Tribe (previously listed as the St. Regis Band of Mohawk Indians of New York); Seneca Nation of Indians (previously listed as the Seneca Nation of New York); Seneca-Cayuga Nation (previously listed as the Seneca-Cayuga Tribe of Oklahoma); Tonawanda Band of Seneca (previously listed as the Tonawanda Band of Seneca Indians of New York); and Tuscarora Nation (hereinafter known as the Haudenosaunee Confederacy).

History and Description of the Human Remains

In the 1950s, human remains representing, at minimum, one individual were removed from the farm of Harriet R. and Raymond Rogers in East Springfield, Otsego County, NY. After keeping the human remains several years, a farmer transferred possession to an artist who visited the farm. That artist later learned about NAGPRA and transferred the human remains to the University of Massachusetts, Department of Anthropology. The date of this transfer was not recorded. No known individual was identified. No associated funerary objects are present.

Also in the possession of the University of Massachusetts, Department of Anthropology are human remains representing, at minimum, one individual from an unknown provenience, represented by the vault portion of the cranium (top, sides and back of the head). The following identification is written on the back of the cranium in black ink: “Prehistoric Iriquois [sic] UU 21524/2.” No known individual was identified. No associated funerary objects are present.

No further contextual information accompanies either set of human remains. Both have remained in the possession of the University of Massachusetts since legal control was established.

Determinations Made by the University of Massachusetts Amherst, Department of Anthropology

Officials of the University of Massachusetts Amherst, Department of Anthropology have determined that:

• Pursuant to 25 U.S.C. 3001(9), the human remains described in this notice represent the physical remains of two individuals of Native American ancestry.

• Pursuant to 25 U.S.C. 3001(2), there is a relationship of shared group identity that can be reasonably traced between these Native American human remains and the Haudenosaunee Confederacy.

Additional Requestors and Disposition

Lineal descendants or representatives of any Indian tribe or Native Hawaiian organization not identified in this notice that wish to request transfer of control of these human remains should submit a formal written request with information in support of the claim to Dr. Sonya Atalay, Chair, Repatriation Committee, Department of Anthropology, 217 Machmer Hall, University of Massachusetts, 240 Hicks Way, Amherst, MA 01003, telephone (413) 545-2702, email satalay@umass.edu by July 31, 2017. After that date, if no additional requestors have come forward, transfer of control of the human remains to the Haudenosaunee Confederacy may proceed.

The University of Massachusetts Amherst, Department of Anthropology, is responsible for notifying the Haudenosaunee Standing Committee on Burial Rights and Regulations and the member nations of the Haudenosaunee Confederacy that this notice has been published.

Dated: May 12, 2017.
Melanie O'Brien,
National NAGPRA Program Manager.

[FR Doc. 2017-13737 Filed 6-29-17; 8:45 am]

BILLING CODE 4312-52-P